DEPARTMENT OF THE INTERIOR

Bureau of Land Management

[LLWO270000. L10300000.EG0000; OMB Control Number 1004-0001]

Information Collection; Free Use Application and Permit for Vegetative or Mineral Materials

AGENCY: Bureau of Land Management.

ACTION: 30-day Notice and Request for Comments.

SUMMARY: The Bureau of Land Management (BLM) has submitted an information collection request to the Office of Management and Budget (OMB) for a 3-year extension of OMB Control Number 1004-0001 under the Paperwork Reduction Act. The respondents are individuals and households who provide information to the BLM in support of applications which pertain to the free use of, respectively, petrified wood, timber, et al.

DATES: The OMB is required to respond to this information collection request within 60 days but may respond after 30 days. Therefore, written comments should be received on or before April 29, 2010 in order to be assured of consideration.

ADDRESSES: You may submit comments directly to the Desk Officer for the Department of the Interior (OMB #1004-0001), Office of Management and Budget, Office of Information and Regulatory Affairs, fax 202-395-5806, or by electronic mail at oira_docket@omb.eop.gov. Please mail a copy of your comments to: Bureau Information Collection Clearance Officer (WO-630), Department of the Interior, 1849 C Street, NW., Mail Stop 401 LS, Washington, DC 20240. You may also send a copy of your comments by electronic mail to jean_sonneman@blm.gov.

FOR FURTHER INFORMATION CONTACT: McKinley-Ben Miller, Bureau of Land Management, Division of Forestry, at (202) 912-7165. Persons who use a telecommunication device for the deaf (TDD) may call the Federal Information Relay Service (FIRS) on 1-800-877-8339, 24 hours a day, seven days a week, to contact Mr. Miller.

SUPPLEMENTARY INFORMATION: Title: Form 5510-1, Free Use Application and Permit (43 CFR 3620 and 5510).

OMB Number: 1004-0001.

Forms: 5510-1, Free Use Application and Permit.

Abstract: The Bureau of Land Management proposes to extend the currently approved collection of information, which enables the agency to manage the collection of limited quantities of petrified wood and timber for noncommercial purposes.

60-Day Notice: On January 12, 2010, the BLM published a 60-day notice (75 FR 1647) requesting comments on the proposed information collection. The comment period ended on March 15, 2010. We did not receive any comments from the public in response to this notice or unsolicited comments from respondents covered under these regulations.

Current Action: This proposal is being submitted to extend the expiration date of March 31, 2010.

Type of Review: 3-year extension.

Affected Public: Individuals and households.

Obligation To Respond: Required to obtain or retain benefits.

Annual Responses: 476.

Annual Burden Hours: 238.

There is no filing fee associated with these information collections. The BLM requests comments on the following subjects:

1. Whether the collection of information is necessary for the proper functioning of the BLM, including whether the information will have practical utility;

2. The accuracy of the BLM's estimate of the burden of collecting the information, including the validity of the methodology and assumptions used;

3. The quality, utility and clarity of the information to be collected; and

4. How to minimize the information collection burden on those who are to respond, including the use of appropriate automated, electronic, mechanical, or other forms of information technology.

Please send comments to the addresses listed under ADDRESSES. Please refer to OMB control number 1004-0001 in your correspondence. Before including your address, phone number, e-mail address, or other personal identifying information in your comment, you should be aware that your entire comment—including your personal identifying information—may be made publicly available at any time. While you can ask us in your comment to withhold your personal identifying information from public review, we cannot guarantee that we will be able to do so.

Jean Sonneman,
Acting Information Collection Clearance Officer.

[FR Doc. 2010-6987 Filed 3-29-10; 8:45 am]

BILLING CODE 4310-84-P